EXPORT-IMPORT BANK OF THE UNITED STATES

[Public Notice: 2015-0702]

Agency Information Collection Activities: Comment Request

AGENCY: Export-Import Bank of the United States.

ACTION: Submission for OMB review and comments request.

Form Title: EIB 10-02 Application for Short-Term Express Credit Insurance Policy.

SUMMARY: The Export-Import Bank of the United States (Ex-Im Bank) is requesting an emergency approval for form EIB 10-02, Application for Short-Term Express Credit Insurance Policy, in order to enhance the identification and classification of small businesses, as well as minority-, woman-, and veteran-owned businesses. The Bank will subsequently proceed with the regular authorization request for this form as required by the Paperwork Reduction Act of 1995.

This collection of information is necessary, pursuant to 12 U.S.C. Sec. 635(a)(1), to determine eligibility of the applicant for Ex-Im Bank assistance.

The Export-Import Bank has made a change to the report to have the applicant provide the number of employees or annual sales volume. That information is needed to determine whether or not they meet the SBA's definition of a small business. The applicant already provides their name, address and industry code (NAICS). These additional pieces of information will allow Ex-Im Bank to better track the extent to which its support assists U.S. small businesses.

The other change that Ex-Im Bank has made is to require the applicant to indicate whether it is a minority-owned business, women-owned business and/or veteran-owned business. Although answers to the questions are mandatory, the company may choose any one of the three answers: Yes/No/Decline to Answer. The option of “Decline to Answer” allows a company to consciously decline to answer the specific question should they not wish to provide that information.

The application tool can be reviewed at: http://exim.gov/pub/pending/eib10_02.pdf.

DATES: Comments must be received on or before March 9, 2015 to be assured of consideration.

ADDRESSES: Comments may be submitted electronically on www.regulations.gov or by mail to Michele Kuester, Export-Import Bank of the United States, 811 Vermont Ave. NW., Washington, DC 20571.

SUPPLEMENTARY INFORMATION:

Title and Form Number: EIB 10-02 Application for Short-Term Express Credit Insurance Policy.

OMB Number: 3048-0031.

Type of Review: Emergency.

Need and Use: This form is used by an exporter (or broker acting on its behalf) in order to obtain approval for coverage of the repayment risk of export sales. The information received allows Ex-Im Bank staff to make a determination of the eligibility of the applicant and the creditworthiness of one of the applicant's foreign buyers for Ex-Im Bank assistance under its programs.

Affected Public

This form affects entities involved in the export of U.S. goods and services.

Annual Number of Respondents: 500.

Estimated Time per Respondent: 0.25 hours.

Annual Burden Hours: 125 hours.

Frequency of Reporting of Use: Once per year.

Government Expenses

Reviewing time per year: 1,000 hours.

Average Wages per Hour: $42.50.

Average Cost per Year: $42,250.

(time*wages)

Benefits and Overhead: 20%.

Total Government Cost: $ 51,000.

Bonita Jones-McNeil,
Agency Clearance Officer, Office of the Chief Information Officer.

[FR Doc. 2015-04197 Filed 2-27-15; 8:45 am]

BILLING CODE 6690-01-P